DEPARTMENT OF COMMERCE

International Trade Administration

North American Free-Trade Agreement, Article 1904 NAFTA Panel Reviews; Request for Panel Review

Correction

In notice document 02-30902 appearing on page 72646 in the issue of Friday, December 6, 2002, make the following correction:

On page 72646, in the second column, under the heading SUMMARY, in the sixth line, “USA-CDA-2002-1904-09” should read, “USA-MEX-2002-1904-10”.

[FR Doc. C2-30902 Filed 12-13-02; 8:45 am]

BILLING CODE 1505-01-D

NATIONAL ARCHIVES AND RECORDS ADMINISTRATION

36 CFR Part 1200

RIN 3095-AB12

Official Seals

Correction

In rule document 02-30766 beginning on page 72101 in the issue of Wednesday, December 4, 2002, make the following correction:

§ 1200.2 [Corrected]

On page 72101, in the third column, in § 1200.2, in the first paragraph, in the second line, “30” should read, “3”.

[FR Doc. C2-30766 Filed 12-13-02; 8:45 am]

BILLING CODE 1505-01-D

DEPARTMENT OF THE TREASURY

Fiscal Service

Financial Management Service

Proposed Collection of Information: Resolution Authorizing Execution of Depositary, Financial Agency, and Collateral Agreement; and Depositary, Financial Agency, and Collateral Agreement

Correction

In notice document 02-30016 appearing on page 71010 in the issue of Wednesday, November 27, 2002, make the following correction:

On page 71010, in the third column, in the second line, “The” should read, “They”.

[FR Doc. C2-30016 Filed 12-13-02; 8:45 am]

BILLING CODE 1505-01-D